NUCLEAR REGULATORY COMMISSION

[Docket No. 040-08502; NRC-2009-0036]

Notice of the Nuclear Regulatory Commission Consent to Indirect Change of Control and Issuance of License Amendment to Materials License SUA-1341 for Cogema Mining, Inc, Irigaray and Christensen Ranch Facilities

AGENCY: Nuclear Regulatory Commission.

ACTION: Notice of approval of indirect change of control and issuance of license amendment.

FOR FURTHER INFORMATION CONTACT: Ron C. Linton, Project Manager, Uranium Recovery Licensing Branch, Decommissioning and Uranium Recovery Licensing Directorate, Division of Waste Management and Environmental Protection, Office of Federal and State Materials and Environmental Management Programs, U.S. Nuclear Regulatory Commission, Washington, DC 20555. Telephone: (301) 415-7777; fax number: (301) 415-5369; e-mail: ron.linton@nrc.gov.

SUPPLEMENTARY INFORMATION: Pursuant to 10 CFR 2.106, the U.S. Nuclear Regulatory Commission (NRC) is providing notice of NRC consent to the indirect change of control and issuance of license amendment 15 to Source Materials License No. SUA-1341. This license authorizes Cogema Mining, Inc., to possess uranium and 11.e (2) byproduct material at its Irigaray and Christensen Ranch in situ recovery (ISR) facilities in Johnson and Campbell Counties, Wyoming. The facilities are currently in operating status, but are not producing uranium at this time.

By letter dated September 18, 2009, and supplemental information dated October 23, 2009, November 18, 2009, and December 3, 2009, Cogema and Uranium One Exploration U.S.A., Inc., submitted an application to the NRC requesting approval of the change of control of Source Materials License SUA-1341 and the Irigaray and Christensen Ranch facilities. The change of control involves a share purchase agreement whereby all shares in Cogema—a subsidiary of Cogema Resources, Inc., which in turn is a subsidiary of Areva, NC (both of which are Delaware corporations)—will be acquired by Uranium One Exploration U.S.A., which is also a Delaware corporation. Uranium One Exploration U.S.A., is a subsidiary of Uranium One Americas, Inc. (a Nevada corporation). Uranium One Americas is a subsidiary of Uranium One Investments, which, in turn, is a subsidiary of Uranium One, Inc. (both of which are Canadian companies).

NRC's receipt of the request to take this licensing action was previously noticed in the Federal Register on October 30, 2009 (74 FR 56241), with a notice of an opportunity to request a hearing by November 19, 2009. No requests for a hearing were received.

By Order dated December 17, 2009, NRC approved the indirect transfer. The order was accompanied by a Safety Evaluation Report (SER) documenting the basis for the NRC staff's approval and a license amendment. These actions comply with the standards and requirements of the Atomic Energy Act of 1954, as amended, and NRC's rules and regulations.

FOR FURTHER INFORMATION CONTACT: In accordance with 10 CFR 2.390 of the NRC's “Rules of Practice,” the details with respect to this action, including the SER and accompanying documentation, and license amendment, are available electronically at the NRC's Electronic Reading Room at http://www.nrc.gov/reading-rm/adams.html. From this site, you can access the NRC's Agencywide Document Access and Management System (ADAMS), which provides text and image files of NRC's public documents. The ADAMS accession numbers for the documents related to this notice are:

—
— | — | —
1 | Applicant's application, September 18, 2009 | ML092660641
2 | Supplementary information, October 23, 2009 | ML093090468
3 | Supplementary information, November 18, 2009 | ML093290146
4 | Supplementary information, November 18, 2009 | ML093360303
5 | Supplementary information, December 3, 2009 | ML093420030
6 | NRC Letter approving change of control, December 17, 2009 | ML093290021
7 | NRC Order dated December 17, 2009 | ML093290068
8 | NRC Materials License SUA-1341, Amendment 15, December 17, 2009 | ML093290083
9 | NRC Safety Evaluation Report dated December 17, 2009 | ML093290074

If you do not have access to ADAMS, or if there are problems in accessing the documents located in ADAMS, contact the NRC Public Document Room (PDR) Reference staff at 1-800-397-4209, 301-415-4737, or via e-mail to pdr@nrc.gov.

These documents may also be viewed electronically on the public computers located at the NRC's PDR, O 1 F21, One White Flint North, 11555 Rockville Pike, Rockville, MD 20852. The PDR reproduction contractor will copy documents for a fee.

Dated at Rockville, Maryland, this 22nd day of December, 2009.
For the Nuclear Regulatory Commission.
Keith I. McConnell,
Deputy Director, Decommissioning and Uranium Recovery Licensing Directorate, Division of Waste Management and Environmental Protection, Office of Federal and State Materials and Environmental Management Programs.

[FR Doc. E9-31036 Filed 12-29-09; 8:45 am]

BILLING CODE 7590-01-P